ENVIRONMENTAL PROTECTION AGENCY

[FRL-9230-1]

Clean Water Act Section 303(d): Availability of List Decisions Correction

AGENCY: Environmental Protection Agency (EPA).

ACTION: Correction: Notice of Availability.

SUMMARY: This action corrects a Federal Register notice that published on November 9, 2010 at 75 FR 68783 announcing the availability of EPA decisions identifying water quality limited segments and associated pollutants in California to be listed pursuant to Clean Water Act section 303(d)(2), and requests public comment. This announcement corrects the previously published decision date and public comment deadline. Section 303(d)(2) requires that states submit and EPA approve or disapprove lists of waters for which existing technology-based pollution controls are not stringent enough to attain or maintain state water quality standards and for which total maximum daily loads (TMDLs) must be prepared.

On November 12, 2010 EPA approved California's 2008-2010 submitted 303(d) list of impaired waters and associated pollutants and disapproved California's decisions not to list several water quality limited segments as impaired and additional associated pollutants for several others. EPA identified these additional water bodies and pollutants for inclusion on the State's 2008-2010 section 303(d) list. The waterbodies and associated pollutants are identified in Table 3 of the decision document available at the Web site link provided below.

EPA is providing the public the opportunity to review its decisions to add waters and pollutants to California's 2008-2010 section 303(d) list, as required by EPA's Public Participation regulations. EPA will consider public comments received, and may revise its decision if appropriate. EPA solicits public comment only on the additional waters and associated pollutants for inclusion on California's 2008-2010 Section 303(d) list.

DATES: Comments must be submitted to EPA on or before December 23, 2010.

FOR FURTHER INFORMATION CONTACT: Comments on the proposed decisions should be sent to Valentina Cabrera Stagno or Dave Guiliano, Water Division (WTR-2), U.S. Environmental Protection Agency Region IX, 75 Hawthorne Street, San Francisco, CA 94105, telephone (415) 972-3434 or (415) 947-4133, facsimile (415) 947-3537, e-mail cabrera-stagno.valentina@epa.gov or guiliano.dave@epa.gov. Oral comments will not be considered. Material concerning California's 303(d) list which explain the rationale for EPA's decisions are available on EPA Region IX's Web site at http://www.epa.gov/region9/water/tmdl/california.html or by writing or calling Valentina Cabrera Stagno or Dave Guiliano. Underlying documentation comprising the record for these decisions is available for public inspection at the above address.

Dated: November 12, 2010.
Alexis Strauss,
Director, Water Division, Region IX.

[FR Doc. 2010-29486 Filed 11-22-10; 8:45 am]

BILLING CODE 6560-50-P